DEPARTMENT OF HEALTH AND HUMAN SERVICES

Health Resources and Services Administration

Agency Information Collection Activities: Submission to OMB for Review and Approval; Public Comment Request; Application for Health Center Program Recipients for Deemed Public Health Service Employment With Liability Protections Under the Federal Tort Claims Act, 0906-0035, Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than April 29, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION: When submitting comments or requesting information, please include the information request collection title for reference.

Information Collection Request Title: Application for Health Center Program Recipients for Deemed Public Health Service Employment with Liability Protections Under the Federal Tort Claims Act (FTCA), OMB No. 0906-0035—Revision.

Abstract: Section 224(g)-(n) of the Public Health Service (PHS) Act (42 U.S.C. 233(g)-(n)), as amended, authorizes the “deeming” of entities receiving funds under section 330 of the PHS Act as PHS employees for the purposes of receiving FTCA coverage. The Health Center Program is administered by HRSA's Bureau of Primary Health Care (BPHC). Health centers submit deeming applications annually to BPHC in the prescribed form and manner in order to obtain deemed PHS employee status for this purpose.

The FTCA Program has a web-based application system, the Electronic Handbooks. These electronic application forms decrease the time and effort required to complete the older, paper-based OMB approved FTCA application forms. The application includes: Contact Information; Section 1: Review of Risk Management Systems; Section 2: Quality Improvement/Quality Assurance; Section 3: Credentialing and Privileging; Section 4: Claims Management; and Section 5: Additional Information, Certification, and Signatures.

HRSA is proposing several changes to the Application for Health Center Program Award Recipients for Deemed PHS Employment with Liability Protections under the FTCA, to be used for health center deeming applications for calendar year 2022 and thereafter, to clarify questions posed and required documentation. Specifically, the Application includes the following proposed changes:

• Updated application language: Throughout the application, alternate terminology was utilized to provide greater clarity and specificity. These changes were based on stakeholder feedback and information received from the HRSA Health Center Program Support. These changes are not substantive in nature.

• Some questions were removed from Quality Improvement/Quality Assurance Section, as these questions are similar to information that is also collected in the Risk Management Section. This change is intended to reduce duplicative information collection.

• For the Credentialing and Privileging Section, in this cycle, the application will return to the previous process of submitting a Credentialing List with providers' credentialing and privileging information.

A 60-day notice published in the Federal Register, 86 Fed Reg. 72250 (December 21, 2021). There were no public comments.

Need and Proposed Use of the Information Deeming applications are required by law and must address certain specific criteria in order for deeming determinations to be issued. The application submissions provide BPHC with the information essential for evaluation of compliance with legal requirements and making a deeming determination under Section 224(g)-(n) of the PHS Act (42 U.S.C. 233(g)-(n)).

Likely Respondents: Respondents include recipients of Health Center Program funds seeking deemed PHS employee status under Section 224(g)-(n) of the PHS Act (42 U.S.C. 233(g)-(n)).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
FTCA Health Center Program Initial Application | 35 | 1 | 35 | 2.5 | 87.5
FTCA Health Center Program Redeeming Application | 1,125 | 1 | 1,125 | 2.5 | 2,812.5
Total | 1,160 |  | 1,160 |  | 2,900

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-06647 Filed 3-29-22; 8:45 am]

BILLING CODE 4165-15-P